DEPARTMENT OF COMMERCE

International Trade Administration

[C-821-839]

Ferrosilicon From the Russian Federation: Final Affirmative Countervailing Duty Determination and Final Affirmative Determination of Critical Circumstances

AGENCY: Enforcement and Compliance, International Trade Administration, Department of Commerce.

SUMMARY: The U.S. Department of Commerce (Commerce) determines that countervailable subsidies are being provided to producers and exporters of ferrosilicon from the Russian Federation (Russia). The period of investigation (POI) is January 1, 2023, through December 31, 2023.

DATES: Applicable September 18, 2024.

FOR FURTHER INFORMATION CONTACT: Mark Hoadley, AD/CVD Operations, Office IX, Enforcement and Compliance, International Trade Administration, U.S. Department of Commerce, 1401 Constitution Avenue NW, Washington, DC 20230; telephone: (202) 482-3148.

SUPPLEMENTARY INFORMATION:

Background

On June 28, 2024, Commerce published its Preliminary Determination in the Federal Register and invited interested parties to comment.¹ Subsequently, on August 28, 2024, Commerce published its Preliminary Critical Circumstances Determination in the Federal Register and invited interested parties to comment.² On July 22, 2024, Commerce tolled certain deadlines in these administrative proceedings by seven days.³ The deadline for the final determination is now September 11, 2024. For a complete discussion of the events that followed the Preliminary Determination, see the Issues and Decision Memorandum.⁴

¹ See Ferrosilicon from the Russian Federation: Preliminary Affirmative Countervailing Duty Determination, 89 FR 53949 (June 28, 2024) (Preliminary Determination), and accompanying Preliminary Decision Memorandum (PDM).

² See also Ferrosilicon from the Russian Federation: Preliminary Affirmative Critical Circumstances Determinations, 89 FR 68860 (August 28, 2024) (Preliminary Critical Circumstances Determination).

³ See Memorandum, “Tolling of Deadlines in Antidumping and Countervailing Duty Proceeding,” dated July 22, 2024.

⁴ See Memorandum, “Decision Memorandum for the Final Affirmative Determination in the Countervailing Duty Investigation of Ferrosilicon from the Russian Federation,” dated concurrently with, and hereby adopted by, this notice (Issues and Decision Memorandum).

The Issues and Decision Memorandum is a public document and is made available to the public via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The product covered by this investigation is ferrosilicon from Russia. For a complete description of the scope of this investigation, see Appendix I.

Scope Comments

On August 28, 2024, CC Metals and Alloys, LLC and Ferroglobe USA, INC. (collectively, the petitioners) filed a clarification of the scope language in which the petitioner noted that there was a word missing in the scope language (i.e., in the Petition and the Initiation Notice, the first paragraph of the scope stated: “10 percent or less any other element” and should read “10 percent or less of any other element”).⁵ We have corrected this omission. For a full description of the scope of this investigation, see Appendix I.

⁵ See Petitioners' Letter, “Clarification of Scope Language,” dated August 28, 2024; see also Ferrosilicon from Brazil, Kazakhstan, Malaysia, and the Russian Federation: Initiation of Countervailing Duty Investigations, 89 FR 31133 dated April 24, 2024 (Initiation Notice).

Analysis of Subsidy Programs and Comments Received

The subsidy programs under investigation and the issues raised in the case and rebuttal briefs by the parties in this investigation are discussed in the Issues and Decision Memorandum. For a list of the issues raised by interested parties and addressed in the Issues and Decision Memorandum, see Appendix II.

Methodology

Commerce conducted this investigation in accordance with section 701 of the Tariff Act of 1930, as amended (the Act). For each of the subsidy programs found to be countervailable, Commerce determines that there is a subsidy, i.e., a financial contribution by an “authority” that gives rise to a benefit to the recipient, and that the subsidy is specific.⁶ For a full description of the methodology underlying our final determination, see the Issues and Decision Memorandum.

⁶ See sections 771(5)(B) and (D) of the Act regarding financial contribution; see also section 771(5)(E) of the Act regarding benefit; and section 771(5)(A) of the Act regarding specificity.

In making this final determination, Commerce relied on total facts otherwise available, including with an adverse inference, pursuant to sections 776(a) and (b) of the Act. For a full discussion of our application of adverse facts available (AFA), see the Preliminary Determination ⁷ and the Issues and Decision Memorandum at the section entitled “Use of Facts Otherwise Available and Application of Adverse Inferences.”

⁷ See Preliminary Determination PDM at 4-27.

Changes Since the Preliminary Determination

Based on our review and analysis of the comments received from interested parties, we did not make changes to the subsidy rate determinations for RFA.

Final Affirmative Determination of Critical Circumstances

In the Preliminary Critical Circumstances Determination, Commerce preliminary determined, in accordance with section 703(e) of the Act, and 19 CFR 351.206, that critical circumstances exist with respect to imports of subject merchandise for Russian Ferro Alloys Inc./RFA International LP (RFA), the mandatory respondent in this investigation, and all other producers and/or exporters.⁸ For this final determination, in accordance with section 705(a)(2) of the Act as well as our analysis of comments received regarding our affirmative preliminary determination of critical circumstances,⁹ Commerce continues to find that critical circumstances exist with respect to imports of subject merchandise for RFA and all other producers and/or exporters.¹⁰

⁸ See Preliminary Critical Circumstances Determination.

⁹ See Issues and Decision Memorandum at Comment 3.

¹⁰ See Preliminary Critical Circumstances Determination; see also Issues and Decision Memorandum.

All-Others Rate

Pursuant to section 705(c)(5)(A)(i) of the Act, Commerce will determine an all-others rate equal to the weighted-average countervailable subsidy rates established for exporters and/or producers individually investigated, excluding any zero or de minimis countervailable subsidy rates, and any rates determined entirely under section 776 of the Act. However, as discussed in the Preliminary Determination, Commerce based the selection of the all-others rate on the countervailable subsidy rate established for the mandatory respondent, in accordance with section 705(c)(5)(A)(ii) of the Act.¹¹ As a result, because the only subsidy rate available, is the rate determined for RFA, the rate calculated for RFA is also assigned as the rate for all other producers and exporters. We made no changes to the selection of the all-others rate for this final determination.

¹¹ See Preliminary Determination, 89 FR 53949.

Final Determination

Commerce determines that the following estimated countervailable subsidy rates exist for the period January 1, 2023, through December 31, 2023:

Company | Subsidy rate (percent ad valorem)
Russian Ferro Alloys Inc./RFA International LP | * 748.58
All Others | 748.58
* Rate based on AFA.

Disclosure

Normally, Commerce discloses to interested parties the calculations performed in connection with a final determination within five days of any public announcement or, if there is no public announcement, within five days of the date of publication of the notice of final determination in the Federal Register, in accordance with 19 CFR 351.224(b). However, because there are no changes to the calculations from the Preliminary Determination, no additional disclosure is necessary.

Continuation of Suspension of Liquidation

As a result of our Preliminary Determination and pursuant to sections 703(d)(1)(B) and (d)(2) of the Act, we instructed U.S. Customs and Border Protection (CBP) to suspend liquidation of entries of subject merchandise from Russia that were entered, or withdrawn from warehouse, for consumption, on or after June 28, 2024, the date of publication of the Preliminary Determination in the Federal Register. Because we preliminarily determined that critical circumstances existed with respect to RFA and all other producers/exporters, we instructed CBP to suspend such entries on or after April 24, 2024, the date of publication of the initiation notice in the Federal Register.¹²

¹² See Preliminary Critical Circumstances Determination. We note that the Preliminary Critical Circumstances Determination indicated March 30, 2024, as the start of the suspension of liquidation. However, pursuant to section 703(e)(2) of the Act, the correct date for the start of suspension of liquidation is April 24, 2024, which is the date of publication of the Initiation Notice.

In accordance with section 703(d) of the Act, we will instruct CBP to discontinue the suspension of liquidation of all entries of subject merchandise entered or withdrawn from warehouse, on or after October 25, 2024, the final day of provisional measures.

If the U.S. International Trade Commission (ITC) issues a final affirmative injury determination, we will issue a CVD order, reinstate the suspension of liquidation under section 706(a) of the Act, as appropriate, and require a cash deposit of estimated countervailing duties for entries of subject merchandise in the amounts indicated above. If the ITC determines that material injury, or threat of material injury, does not exist, this proceeding will be terminated, and all estimated duties deposited or securities posted as a result of the suspension of liquidation will be refunded or cancelled.

ITC Notification

In accordance with section 705(d) of the Act, we will notify the ITC of our final affirmative determination that countervailable subsidies are being provided to producers and exporters of ferrosilicon from Russia. Because the final determination is affirmative, in accordance with section 705(b) of the Act, the ITC will make its final determination as to whether the domestic industry in the United States is materially injured, or threatened with material injury, by reason of imports of ferrosilicon from Russia no later than 45 days after our final determination. In addition, we are making available to the ITC all non-privileged and nonproprietary information related to this investigation. We will allow the ITC access to all privileged and business proprietary information in our files, provided the ITC confirms that it will not disclose such information, either publicly or under an administrative protective order (APO), without the written consent of the Assistant Secretary for Enforcement and Compliance. If the ITC determines that material injury or threat of material injury does not exist, this proceeding will be terminated and all cash deposits will be refunded. If the ITC determines that such injury does exist, Commerce will issue a CVD order directing CBP to assess, upon further instruction by Commerce, CVDs on all imports of the subject merchandise that are entered, or withdrawn, for consumption on or after the effective date of the suspension of liquidation, as discussed above in the “Continuation of Suspension of Liquidation” section.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published in accordance with sections 705(d) and 777(i) of the Act, and 19 CFR 351.210(c).

Dated: September 11, 2024.
Ryan Majerus,
Deputy Assistant Secretary for Policy and Negotiations, performing the non-exclusive functions and duties of the Assistant Secretary for Enforcement and Compliance.

Appendix I

Scope of the Investigation

The scope of this investigation covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the investigation if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

Appendix II

List of Topics Discussed in the Issues and Decision Memorandum

I. Summary

II. Background

III. Scope of the Investigation

IV. Final Critical Circumstances Determination

V. Use of Facts Otherwise Available and Application of Adverse Inferences

VI. Analysis of Programs

VII. Discussion of the Issues

Comment 1: Whether Commerce Should Apply Total Adverse Facts Available (AFA) to the Programs Under Investigation

Comment 2: Whether Commerce Should Revise Its Decision Regarding Mandatory Respondent Selection

Comment 3: Whether Commerce Should Reverse Its Preliminary Affirmative Critical Circumstances Finding

VIII. Recommendation

[FR Doc. 2024-21181 Filed 9-17-24; 8:45 am]

BILLING CODE 3510-DS-P